DEPARTMENT OF INTERIOR

Fish and Wildlife Service

DEPARTMENT OF COMMERCE

National Oceanic and Atmospheric Administration, National Marine Fisheries Service

[I.D. 041205C]

Notice of Intent to Conduct Public Scoping Meetings and to Prepare an Environmental Impact Statement Related to the Elliott State Forest Habitat Conservation Plan

AGENCIES: Fish and Wildlife Service (FWS), Interior; National Marine Fisheries Service (NMFS), National Oceanic and Atmospheric Administration, Commerce.

ACTION: Notice of intent, to conduct scoping meetings.

SUMMARY: The U.S. Fish and Wildlife Service and National Marine Fisheries Service (Services) advise interested parties of their intent to conduct public scoping under the National Environmental Policy Act (NEPA) necessary to gather information to prepare an Environmental Impact Statement (EIS) on an anticipated permit application from the Oregon Division of Forestry (ODF) submitted under of the Endangered Species Act (ESA) for the incidental take of listed species, associated with the Elliott State Forest Habitat Conservation Plan (HCP) in Oregon.

DATES: Public scoping meetings are scheduled as follows:

1. May 24, 2005, 6-10 p.m., Roseburg, OR.

2. May 25, 2005, 6-10 p.m., North Bend, OR.

3. May 26, 2005, 6-10 p.m., Salem, OR.

Written comments should be received on or before June 8, 2005.

ADDRESSES: All comments concerning the preparation of the EIS and the NEPA process should be addressed to: Lee Folliard, FWS, 2600 SE 98th Avenue, Suite 100, Portland, OR 97266, facsimile: (503) 231-6195; or Chuck Wheeler, NMFS, 2900 NW Stewart Parkway, Roseberg, OR 97470-1274, facsimile: (541) 957-3386.

FOR FURTHER INFORMATION CONTACT: Lee Folliard, (503) 231-6179 or Chuck Wheeler (541) 957-3379. Comments may be submitted by e-mail to the following address: ElliottStateForest.nwr@noaa.gov. In the subject line of the e-mail, include the document identifier: Elliott State Forest HCP. Comments and materials received will be available for public inspection, by appointment, during normal business hours at the above address.

SUPPLEMENTARY INFORMATION:

Meetings

The public scoping meetings will be held at the following locations:

1. Oregon Department of Fish and Wildlife Office, 4192 North Umpqua Highway, Roseburg, OR

2. North Bend Public Library, 1800 Sherman Avenue, North Bend, OR

3. Oregon Department of Forestry, 2600 State Street, Salem, OR

Reasonable Accommodation

Persons needing reasonable accommodations in order to attend and participate in public meetings should contact Lee Folliard as soon as possible (see FOR FURTHER INFORMATION CONTACT). In order to allow sufficient time to process requests, please call no later than one week before the public meeting. Information regarding this proposed action is available in alternative formats upon request.

Statutory Authority

Section 9 of the ESA (16 U.S.C. 1532 et seq.) and implementing regulations prohibit the “taking” of animal species listed as endangered or threatened. The term take is defined under the ESA as to mean harass, harm, pursue, hunt, shoot, wound, kill, trap, capture, or collect, or to attempt to engage in any such conduct (16 U.S.C. 1532(19)). Harm is defined by the FWS to include significant habitat modification or degradation where it actually kills or injures wildlife by significantly impairing essential behavioral patterns, including breeding, feeding, and sheltering (50 CFR 17.3). NMFS' definition of harm includes significant habitat modification or degradation where it actually kills or injures fish or wildlife by significantly impairing essential behavioral patterns, including breeding, feeding, spawning, migrating, rearing, and sheltering (64 FR 60727, November 8, 1999).

Section 10 of the ESA specifies requirements for the issuance of incidental take permits (ITPs) to non-Federal landowners for the take of endangered and threatened species. Any proposed take must be incidental to otherwise lawful activities, not appreciably reduce the likelihood of the survival and recovery of the species in the wild and minimize and mitigate the impacts of such take to the maximum extent practicable. In addition, an applicant must prepare a HCP describing the impact that will likely result from such taking, the strategy for minimizing and mitigating the incidental take, the funding available to implement such steps, alternatives to such taking and the reason such alternatives are not being implemented.

NEPA (42 U.S.C. 4321 et seq.) requires that Federal agencies conduct an environmental analysis of their proposed actions to determine if the actions may affect the human environment. Under NEPA, a reasonable range of alternatives to proposed projects are developed and considered in the Services' environmental review. Alternatives considered for analysis in an EIS may include: variations in the scope of covered activities; variations in the location, amount and type of conservation; variations in permit duration; or, a combination of these elements. In addition, the EIS will identify potentially significant direct, indirect, and cumulative impacts on biological resources, land use, air quality, water quality, water resources, socioeconomics, and other environmental issues that could occur with the implementation of the proposed actions and alternatives. For all potentially significant impacts, the EIS will identify avoidance, minimization, and mitigation measures to reduce these impacts, where feasible, to a level below significance.

Background

The EIS will analyze the potential issuance of two ITPs, one by NMFS and one by the FWS. To obtain an ITP, the applicant must prepare a HCP that meets the issuance criteria established by the Services (50 CFR section 17.22 (b)(2) and section 222.307). Should a permit be issued, the permit would include assurances under the Service's “No Surprises” regulations.

The Elliott State Forest encompasses approximately 97,000 acres of state-owned forestlands in Coos, Curry, and Douglas Counties in Oregon's Coast Range. ODF manages the Elliott State Forest out of its Coos District Office, located in Coos Bay. Most of the forest (93,000 acres) lies on a contiguous block of land approximately 18 miles (28.97 km) long from north to south, and about 16 miles (25.75 km) wide from west to east. The remaining 4,000 acres of land associated with the Elliott State Forest are distributed across a wide geographic area ranging from the California border to just north of the Umpqua River, and from the Pacific Ocean to Sutherlin in the interior Umpqua River Valley.

Ninety-one percent of the Elliott State Forest lands are Common School Forest Lands, which are owned by the State Land Board and must be managed for the greatest benefit to the people of the State of Oregon. This benefit has been interpreted to mean maximizing revenue to the Common School Fund over the long-term, consistent with sound techniques of land management. Consideration is given to the protection of soils, streams, wildlife habitat, recreational opportunities, and other forest values. The remaining lands are Board of Forestry Lands, which must be managed to secure the greatest permanent value to the citizens of Oregon by providing healthy, productive, and sustainable forest ecosystems that over time and across the landscape, provide a full range of social, economic and environmental benefits.

The Elliott State Forest is managed in accordance with the 1994 Elliott State Forest Management Plan (FMP). ODF also holds an ITP for potential take of northern spotted owl on the Elliott State Forest; the ITP and associated HCP went into effect in 1995. ODF is currently revising the 1994 FMP, and a draft was released in May 2004 for public review. Some of the proposed forest management activities have the potential to affect federally-listed species subject to protection under the ESA, including the northern spotted owl (Strix occidentalis caurina), bald eagle (Haliaeetus leucocephalus), marbled murrelet (Brachyramphus marmoratus), and coho salmon (Oncorhyncus kisutch). As a result, ODF is preparing a new, 50-year HCP, in response to the revised FMP, that would address incidental take of these listed species, as well as several unlisted species.

It is expected that ODF will submit a draft HCP to the Services as part of the ITP applications in mid-2005. Separate applications will be submitted to the FWS and NMFS, and the HCP will support both applications. The application to FWS will address the potential take of northern spotted owl, bald eagle, and marbled murrelet, which are listed as threatened under the ESA. Unlisted species under FWS jurisdiction that ODF is expected to include in their application include peregrine falcon (Falco peregrinus), northern goshawk (Accipiter gentiles), pileated woodpecker (Dryocopus pileatus), olive-sided flycatcher (Contopus borealis), western bluebird (Sialia mexicana), coastal cutthroat trout (Oncorhynchus clarki clarki), Umpqua chub (Oregonichthys kalawatseti), Pacific lamprey (Lampetra tridentatus), river lamprey (Lampetra ayresi), Millicoma longnose dace (Rhinichthys cataractae spp.), fisher (Martes pennanti), Townsend's big-eared bat (Plecotus townsendii), fringed myotis bat (Myotis thysanodes), long-legged myotis bat (Myotis volans), red-legged frog (Rana aurora), western pond turtle (Clemmys marmorata), sharptail snake (Contia tenuis), southern seep salamander (Rhyacotriton variegates), and tailed frog (Ascaphus truei). The NMFS application will address the potential take of Southern Oregon Northern California coho salmon, which is listed as threatened under the ESA and Oregon Coast coho salmon, which is proposed to be listed as threatened. Unlisted species under NMFS jurisdiction that ODF is expected to include in their application include Chinook salmon (Oncorhynchus tshawytscha), chum salmon (Oncorhynchus keta), and steelhead trout (Oncorhynchus mykiss).

Activities that ODF is currently considering for ITP coverage, and for which minimization and mitigation measure are being developed, include the following:

1.Mechanized timber harvest;

2.Forest product transportation;

3.Road and landing construction, use, maintenance, and abandonment;

4.Harvest-site preparation (excluding use of herbicides);

5.Tree planting;

6.Certain types of vegetation management (excluding use of herbicides);

7.Fertilizer application;

8.Silvicultural thinning and other silvicultural activities;

9.Fire suppression;

10.Aquatic habit restoration and other forest management activities;

11.Energy and minerals activities; and

12.Monitoring activities and scientific work

The draft HCP to be prepared by ODF in support of the ITP applications will describe the impacts of take on proposed covered species, and will propose a conservation strategy to minimize and mitigate those impacts on each covered species to the maximum extent practicable. This conservation strategy is expected to include maintenance of a diverse range of forest stand structures; designation of conservation areas to protect special resources, including sites used by owls and murrelets; a landscape design that provides functional habitat for native species; maintenance of structural habitat components throughout the forest; stream protection buffers; a forest road program; a monitoring and adaptive management program; and aquatic habitat restoration measures. The draft HCP will identify HCP alternatives considered by ODF and will explain why those alternatives were not selected. The Services are responsible for determining whether the HCP satisfies the ESA section 10 permit issuance criteria.

Request for Comments

The primary purpose of the scoping process is to identify important issues and alternatives raised by the public, related to the proposed action. Each scoping workshop will allocate time for informal discussion and questions with presentations by the Services and ODF.

Written comments from interested parties are welcome to ensure that the full range of issues related to the permit requests are identified. All comments and materials received, including names and addresses, will become part of the administrative record and may be released to the public.

Comments and materials received will be available for public inspection, by appointment, during normal business hours at the offices listed in the ADDRESSES section.

The Services request that comments be specific. In particular, we request information regarding: the direct, indirect, and cumulative impacts that implementation of the proposed HCP could have on endangered and threatened and other covered species, and their communities and habitats; other possible alternatives that meet the purpose and need; potential adaptive management and/or monitoring provisions; funding issues; existing environmental conditions in the plan area; other plans or projects that might be relevant to this proposed project; and minimization and mitigation efforts. NMFS and FWS estimate that the draft EIS will be available for public review in the fall of 2005.

The environmental review of this project will be conducted in accordance with the requirements of the NEPA of 1969 as amended (42 U.S.C. 4321 et seq.), Council on the Environmental Quality Regulations (40 CFR 1500 1508), other applicable Federal laws and regulations, and policies and procedures of the Services for compliance with those regulations. This notice is being furnished in accordance with 40 CFR 1501.7 of NEPA to obtain suggestions and information from other agencies and the public on the scope of issues and alternatives to be addressed in the EIS.

Dated: April 28, 2005.
Phil Williams,
Chief, Endangered Species Division, Office of Protected Resources, National Marine Fisheries Service.

April 28, 2005.
David J. Wesley,
Deputy Regional Director, Fish and Wildlife Service, Region 1, Portland, Oregon

[FR Doc. 05-9223 Filed 5-6-05; 8:45 am]

BILLING CODES 3510-22-S, 4310-55-S